DEPARTMENT OF HEALTH AND HUMAN SERVICES

Centers for Disease Control and Prevention

Board of Scientific Counselors, National Center for Injury Prevention and Control (BSC, NCIPC)

AGENCY: Centers for Disease Control and Prevention (CDC), Department of Health and Human Services (HHS).

ACTION: Notice of meeting.

SUMMARY: In accordance with the Federal Advisory Committee Act, the CDC announces the following meeting for the Board of Scientific Counselors, National Center for Injury Prevention and Control, (BSC, NCIPC). This is a virtual meeting open to the public, limited by the capacity of the conference webinar which is 2,000 participants. Pre-registration is required by accessing the link at: https://dceproductions.zoom.us/webinar/register/WN_vCTciAdyQIeDK5g3NfFPow. There will be a public comment period from 2:15 p.m. to 4:15 p.m., EDT. The public is encouraged to register to provide public comment using the registration form available at the link provided in the meeting information section below.

DATES: The meeting will be held on July 16, 2021, from 10:00 a.m. to 4:50 p.m., EDT.

ADDRESSES: Zoom Virtual Meeting. If you would like to attend the virtual meeting, please pre-register by accessing the link at: https://dceproductions.zoom.us/webinar/register/WN_vCTciAdyQIeDK5g3NfFPow. Instructions to access the Zoom virtual meeting will be provided in the link following your registration.

Meeting Information: There will be a public comment period from 2:15 p.m. to 4:15 p.m., EDT. The public is encouraged to register to provide public comment using the registration form available at the link provided: https://www.surveymonkey.com/r/zgbg7qz.

Individuals wishing to pre-register for public comment must do so by 5:00 p.m., EDT, Monday, July 12, 2021. Those pre-registering for public comment must also register for the meeting by accessing the link at: https://dceproductions.zoom.us/webinar/register/WN_vCTciAdyQIeDK5g3NfFPow. Individuals registered to provide public comment will be called upon first to speak based on the order of registration, followed by others from the public. All public comments will be limited to two (2) minutes per speaker.

Written comments must be received on or before July 23, 2021; ncipcbsc@cdc.gov. All written comments will be included as part of the meeting minutes.

FOR FURTHER INFORMATION CONTACT: Gwendolyn H. Cattledge, Ph.D., M.S.E.H., Deputy Associate Director for Science, NCIPC, CDC, 4770 Buford Highway NE, Mailstop S-1069, Atlanta, GA 30341-3717, Telephone: (770) 488-1430; Email: ncipcbsc@cdc.gov.

SUPPLEMENTARY INFORMATION: Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The Board of Scientific Counselors makes recommendations regarding policies, strategies, objectives, and priorities; and reviews progress toward injury prevention goals and provides evidence in injury prevention-related research and programs. In addition, the Board provides advice on the appropriate balance of intramural and extramural research, the structure, progress, and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios; and (5) review of program proposals.

Matters To Be Considered: The agenda will include an update on the process and progress of the draft Guideline for Prescribing Opioids and discussion on the report from the BSC Opioid workgroup. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-11771 Filed 6-3-21; 8:45 am]

BILLING CODE 4163-18-P